DEPARTMENT OF HEALTH AND HUMAN SERVICES

Agency for Healthcare Research and Quality

Meeting of the National Advisory Council for Healthcare Research and Quality

AGENCY: Agency for Healthcare Research and Quality (AHRQ), HHS.

ACTION: Notice of public meeting.

SUMMARY: In accordance with section 10(a) of the Federal Advisory Committee Act, this notice announces a meeting of the National Advisory Council for Healthcare Research and Quality.

DATES: The meeting will be held on Friday, April 7, 2006, from 8:30 a.m. to 4 p.m. and is open to the public.

ADDRESSES: The meeting will be held in Room 800, the Department of Health and Human Services, Hubert H. Humphrey Building, 200 Independence Avenue, SW., Washington, DC 20201.

FOR FURTHER INFORMATION CONTACT: Deborah Queenan, Coordinator of the Advisory Council, at the Agency for Healthcare Research and Quality, 540 Gaither Road, Rockville, Maryland, 20850, (301) 427-1330. For press-related information, please contact Karen Migdail at (301) 427-1855.

If sign language interpretation or other reasonable accommodation for a disability is needed, please contact Mr. Donald L. Inniss, Director, Office of Equal Employment Opportunity Program, Program Support Center, on (301) 443-1144 no later than March 24, 2006. Agenda, roster, and minutes from previous council meetings are available from Ms. Bonnie Campbell, Committee Management Officer, Agency for Healthcare Quality and Research, 540 Gaither Road, Rockville, Maryland, 20850. Ms. Campbell's phone number is (301) 427-1554.

SUPPLEMENTARY INFORMATION:

I. Purpose

Section 921 of the Public Health Service Act (42 U.S.C. 299c) established the National Advisory Council for Healthcare Research and Quality. In accordance with its statutory mandate, the Council is to advise the Secretary of the Department of Health and Human Services and the Director, Agency for Healthcare Research and Quality (AHRQ), on matters related to actions of the Agency to enhance the quality, improve the outcomes, reduce the costs of health care services, improve access to such services through scientific research, and to promote improvements in clinical practice and in the organization, financing, and delivery of health care services.

The Council is composed of members of the public appointed by the Secretary, and Federal ex-officio members.

II. Agenda

On Friday, April 7, 2006, the meeting will convene at 8:30 a.m. with the call to order by the Council Chair. The agenda will include the Director's update on the status of the Agency's current research, programs, and initiatives; a discussion of ambulatory care safety; and the findings on breast cancer from AHRQ's Effective Healthcare initiative. The official agenda will be available on AHRQ's Web site at http://www.ahrq.gov no later than March 31, 2006.

The meeting will adjourn at 4 p.m.

Dated: February 27, 2006.
Carolyn M. Clancy,
Director.

[FR Doc. 06-2189 Filed 3-7-06; 8:45 am]

BILLING CODE 4160-90-M